DEPARTMENT OF AGRICULTURE

Forest Service

Okanogan-Wenatchee National Forest, Okanogan County, WA Bannon, Aeneas, Revis, and Tunk Grazing Allotments Environmental Impact Statement; Correction

AGENCY: Forest Service, USDA.

ACTION: Notice; Correction.

SUMMARY: The USDA Forest Service published a document in the Federal Register of November 27, 2012, concerning requests for comments on the proposed grazing allotments and dates of document availability. The document contained incorrect dates.

FOR FURTHER INFORMATION CONTACT: Christina Bauman, 509-486-5112.

Correction

In the Federal Register of November 27, 2012, in FR Doc. 2012-28420, on page 70137, in the second column, correct the

DATES caption to read:

DATES: Comments concerning the scope of the analysis should be received by January 18, 2013. The draft environmental impact statement is expected to be filed with the Environmental Protection Agency and made available for public review in February 2013. The final environmental impact statement is expected to be available for review in April 2013.

Dated: December 11, 2012.
Clinton Kyhl,
Deputy Forest Supervisor.

[FR Doc. 2012-30311 Filed 12-14-12; 8:45 am]

BILLING CODE 3410-75-P